INTERNATIONAL TRADE COMMISSION

[Investigation 332-416]

The Economic Effects on the United States of the EU-South Africa Agreement on Trade, Development, and Cooperation

AGENCY: United States International Trade Commission.

ACTION: Institution of investigation and scheduling of public hearing.

SUMMARY: Following receipt of a request on April 12, 2000 from the United States Trade Representative (USTR), the Commission instituted investigation No. 332-416, The Economic Effects on the United States of the EU-South Africa Agreement on Trade, Development, and Cooperation, a report to the President under section 332(g) of the Tariff Act of 1930 (19 U.S.C. 1332(g)).

EFFECTIVE DATE: May 17, 2000.

FOR FURTHER INFORMATION CONTACT: Information may be obtained from Walker Pollard (202-205-3228) or Constance Hamilton (202-205-3263), Office of Economics, U.S. International Trade Commission, Washington, DC 20436. For information on the legal aspects of this investigation, contact William Gearhart of the Office of the General Counsel (202-205-3091). Hearing impaired individuals are advised that information on this matter can be obtained by contacting the TDD terminal on (202) 205-1810.

Background

USTR requested that the Commission's report include the following:

• An analysis of the likely impact of the EU-South Africa agreement (EU-SA agreement) on U.S. trade and investment with South Africa.

• An analysis of the potential trade diversionary effects of the EU-SA agreement and other relevant factors affecting U.S. trade with South Africa.

• The percentage of trade in goods covered by the EU-SA agreement and a profile of South Africa's trade and investment patterns.

• A summary of the EU-SA agreement's trade-related provisions including a descriptive summary of the staging provisions of the agreement and a list of all product categories on which tariffs will not drop to zero by the end of the 12-year implementation period.

• A summary of relevant U.S. business views of the EU-SA agreement.

As requested by the USTR, because the agreement will be implemented in stages, the Commission's economic analysis will look at the impact of the provisions that would be in effect in the first year of the agreement, mid-implementation and full implementation. In addition, because the agreement has implications for the Southern African Customs Union (SACU) and the Southern African Development Community (SADC), the Commission's analysis will, as requested, include information on the effects on U.S. trade with the other SACU and SADC members and a discussion of the impact of the agreement on the members of the SACU and SADC in general. The report will contain a review and bibliography of existing academic and other literature relating to this topic.

In addition to descriptive materials related to the agreement and its broad range of potential effects, the Commission will, as requested, conduct a formal quantitative economic analysis based on actual trade and related to economic variables from a recent representative, historical period. This analysis will report on export and import levels and at a sectoral level, to the extent possible, on changes in U.S. trade and investment with South Africa.

The report will include a description of any models or data sets used in the quantitative assessments of the issues. These descriptions will include a discussion of the structure and function of the model and the type and breadth of data. The study will discuss the nature of the limitations and biases in any formal modeling conducted and how such factors may affect reported results, based on economic theory, reviews of any relevant economic literature, and more general descriptive analysis.

The Commission plans to submit its report, The Economic Effects on the United States of the EU-South Africa Agreement on Trade, Development, and Cooperation, by April 12, 2001. The USTR indicated that the report will be classified as confidential.

Public Hearing

A public hearing in connection with the investigation will be held at the U.S. International Trade Commission Building, 500 E Street SW, Washington, DC, beginning at 9:30 a.m. on September 7, 2000. All persons shall have the right to appear, by counsel or in person, to present information and to be heard. Requests to appear at the public hearing should be filed with the Secretary, United States International Trade Commission, 500 E Street SW, Washington, DC 20436, no later than 5:15 p.m., August 17, 2000.

Any prehearing briefs (original and 14 copies) should be filed not later than 5:15 p.m., August 31, 2000; the deadline for filing post-hearing briefs or statements is 5:15 p.m., September 21, 2000. In the event that, as of the close of business on August 17, 2000, no witnesses are scheduled to appear at the hearing, the hearing will be canceled. Any person interested in attending the hearing as an observer or non-participant may call the Secretary of the Commission (202-205-1806) after August 17, 2000, to determine whether the hearing will be held.

Written Submissions

In lieu of or in addition to participating in the hearing, interested parties are invited to submit written statements (original and 14 copies) concerning the matters to be addressed by the Commission in its report on this investigation.

Commercial or financial information that a person desires the Commission to treat as confidential must be submitted on separate sheets of paper, each clearly marked “Confidential Business Information” at the top. All submissions requesting confidential treatment must conform with the requirements of section 201.6 of the Commission's Rules of Practice and Procedure (19 CFR 201.6).

All written submissions must conform with the provisions of section 201.8 of the Commission's Rules. All written submissions, except for confidential business information, will be made available in the Office of the Secretary of the Commission for inspection by interested parties. To be assured of consideration by the Commission, written statements relating to the Commission's report should be submitted to the Commission at the earliest practical date and should be received no later than the close of business on September 21, 2000. All submissions should be addressed to the Secretary, United States International Trade Commission, 500 E Street SW, Washington, DC 20436. The Commission's rules do not authorize filing submissions with the Secretary by facsimile or electronic means.

Persons with mobility impairments who will need special assistance in gaining access to the Commission should contact the Office of the Secretary at 202-205-2000. General information concerning the Commission may also be obtained by accessing its Internet server (http://www.usitc.gov).

List of Subjects

European Union, EU, South Africa, free trade area, FTA, imports, exports, foreign direct investment.

Issued: May 18, 2000.
By order of the Commission.
Donna R. Koehnke,
Secretary.

[FR Doc. 00-13078 Filed 5-23-00; 8:45 am]

BILLING CODE 7020-02-P